DEPARTMENT OF COMMERCE

National Oceanic and Atmospheric Administration

[RTID 0648-XA447]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three-day webinar meeting via webinar to consider actions affecting the Gulf of Mexico fisheries in the exclusive economic zone (EEZ).

DATES: The webinar will convene Monday, September 28, 2020 through Wednesday, September 30, 2020; 9 a.m. until 4 p.m. EDT.

ADDRESSES: The meeting will take place via webinar; you may register for the meeting at www.gulfcouncil.org.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, September 28, 2020; 9 a.m.-9:30 a.m.

The meeting will begin in a CLOSED SESSION of the FULL COUNCIL to make final selection of members to the Coastal Migratory Pelagics and Red Drum Advisory Panels.

Monday, September 28, 2020; 9:45 a.m.-4 p.m.

The meeting will open to the general public mid-morning beginning with the Administrative/Budget Committee review and approval of the Funded 2020 Budget. The Shrimp Committee will review and discuss the Analytical Requirement Program Updates and Reporting Options for Gulf Shrimp Fishery. The Mackerel Committee will receive an update on Coastal Migratory Pelagics Landings; and, review of SEDAR 28 Update: Gulf of Mexico Migratory Group Cobia Stock Assessment. The Sustainable Fisheries Committee will review Aquaculture Aspects of Executive Order 13921, and receive recommendations and public comments on Executive Order 13921; Draft letter on RESTAURANTs Act of 2020 (S. 4012); receive a presentation on Depredation by Marine Mammals; and review Public Hearing Draft Amendment Reef Fish 48/Red Drum 5: Status Determination Criteria and Optimum Yield for Reef Fish and Red Drum.

Tuesday, September 29, 2020; 9 a.m.-4 p.m.

The Reef Fish Committee will review the Reef Fish Landings; discuss the Fishing Industry Impacts Due to COVID-19 and Potential Emergency Rule Requests; and, receive status of Gulf State Recreational Data Collection Programs and 2020 Red Snapper Seasons. The Committee will receive an update from the Marine Recreational Information Program (MRIP) Fishing Effort Survey Calibration Workshop; and, receive a meeting summary from the August 5, 2020 MRIP Red Snapper State Data Calibration Meeting and SSC recommendations.

The Gulf of Mexico Fishery Management Council and National Marine Fisheries Service (NMFS) will hold a Question and Answer session immediately following the Reef Fish Committee.

Wednesday, September 30, 2020; 9 a.m.-4 p.m.

Full Council will convene with a Call to Order, Announcements, and Introductions; Induction of New Council Members; Adoption of Agenda and Approval of Minutes. The Council will hold public comment testimony beginning at approximately 9:30 a.m. until 11 a.m. on Comments on Executive Order 13921; and, open testimony on other fishery issues or concerns. Public comment may begin earlier than 9:30 a.m. EDT but will not conclude before that time. Persons wishing to give public testimony must register on the Council website before the start of the public comment period at 9:30 a.m. EDT.

The Council will continue to receive committee reports from Administrative/Budget, Shrimp, Sustainable Fisheries, Mackerel, and Reef Fish Committees. The Council will announce the Coastal Migratory Pelagics and Red Drum Advisory Panel appointments.

The Council will discuss Other Business item 5th Court Aquaculture Appellate Decision; and, hold an election for Council Chair and Vice-Chair.

—Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during this meeting. Actions will be restricted to those issues specifically listed in this notice and any issues arising after publication of this notice that require emergency action under Section 305(c) of the Magnuson-Stevens Act, provided that the public has been notified of the Council's intent to take final action to address the emergency.

Authority: 16 U.S.C. 1801 et seq.

Dated: September 9, 2020.
Tracey L. Thompson,
Acting Deputy Director, Office of Sustainable Fisheries, National Marine Fisheries Service.

[FR Doc. 2020-20198 Filed 9-11-20; 8:45 am]

BILLING CODE 3510-22-P